ENVIRONMENTAL PROTECTION AGENCY

[FRL-7069-3]

Agency Information Collection Activities: Submission for OMB Review; Comment Request; National Emission Standard for Hazardous Air Pollutants for Total HAP Emissions From Pulp and Paper Production, Pulp and Paper Source Category—Process Operations

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NESHAP for Total HAP Emissions from the Pulp and Paper Production Source Category—Process Operations, OMB Control Number 2060-0387, expiration date September 30, 2001. The ICR describes the nature of the information collection and its expected burden and cost; where appropriate, it includes the actual data collection instrument.

DATES: Comments must be submitted on or before October 29, 2001.

ADDRESSES: Send comments, referencing EPA ICR No. 1657.04 and OMB Control No. 2060-0387, to the following addresses: Susan Auby, U.S. Environmental Protection Agency, Collection Strategies Division (Mail Code 2822), 1200 Pennsylvania Avenue, N.W., Washington, DC 20460-0001; and to Office of Information and Regulatory Affairs, Office of Management and Budget (OMB), Attention: Desk Officer for EPA, 725 17th Street, N.W., Washington, DC 20503.

FOR FURTHER INFORMATION CONTACT: For a copy of the ICR contact Susan Auby at EPA by phone at (202) 260-4901, by E-mail at auby.susan@epamail.epa.gov or download off the Internet at http://www.epa.gov/icr and refer to EPA ICR No. 1657.04. For technical questions about the ICR contact Seth Heminway by phone at (202) 564-7017 or by E-mail at: heminway.seth@epa.gov.

SUPPLEMENTARY INFORMATION: Title: NESHAP—MACT Subpart S, Pulp and Paper Production Source Category—Process Operations (OMB control number 2060-0387; EPA ICR No. 1657.04) expiration date September 30, 2001. This review is for an extension of the currently approved information collection.

Abstract: This NESHAP covering emissions from the pulping process relies on the capture and destruction of hazardous air pollutants (HAP) by either burning them in a boiler or kiln or by introducing them into the wastewater treatment system. HAP's captured from bleaching systems are controlled with a chlorine gas scrubber. The record keeping, notification and reporting requirements of the standard are critically important as they allow the Agency to determine to which facilities the standards apply and they enable the Agency to monitor initial and ongoing compliance with the standards. As much as possible, in order to reduce the burden, the compliance monitoring and record keeping requirements are designed to cover parameters that are already being monitored as part of the manufacturing process.

Pulp mill owners or operators (respondents) are required to submit initial notifications, maintain records of the occurrence and duration of any startup, shutdown, or malfunction in the operation of an affected facility, or any period during which the monitoring system is inoperative. Respondents are required to monitor and keep records of specific operating parameters for each control device and to perform and document periodic inspections of the closed vent and wastewater conveyance systems. All respondents must submit semi-annual summary reports of monitored parameters, and they must submit an additional monitoring report during each quarter in which monitored parameters were outside the ranges established in the standard or during initial performance tests. A source identified to be out of compliance with the NESHAP will be required to submit quarterly reports until the Administrator is satisfied that the source has corrected its compliance problem. These notifications, reports, and records are essential in determining compliance, and are required of all sources subject to MACT standards. Since none of the required reports to the Agency have been deemed confidential business information they will not be treated as such.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on February 2, 2001 (66 FR 8591); no comments were received.

Burden Statement: The annual public reporting and record keeping burden for this collection of information is estimated to average 100 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Pulp mill owners or operators.

Estimated Number of Respondents: 162.

Frequency of Response: Semi-annual and quarterly.

Estimated Total Annual Hour Burden: 50,232.

Estimated Total Annualized Capital, O&M Cost Burden: $370,500.

Send comments on the Agency's need for this information, the accuracy of the provided burden estimates, and any suggested methods for minimizing respondent burden, including through the use of automated collection techniques to the addresses listed above. Please refer to EPA ICR No. 1657.04 and OMB Control No. 2060-0387 in any correspondence.

Dated: September 12, 2001.
Oscar Morales,
Director, Collection Strategies Division.

[FR Doc. 01-24377 Filed 9-27-01; 8:45 am]

BILLING CODE 6560-50-P